DEPARTMENT OF LABOR

Employment and Training Administration

[TA-W-39,449 and NAFTA-04386]

Hasbro Manufacturing Services, El Paso, TX; Dismissal of Application for Reconsideration

Pursuant to 29 CFR 90.18(C) an application for administrative reconsideration was filed with the Director of the Division of Trade Adjustment Assistance for workers at Hasbro Manufacturing Services, El Paso, Texas. The application contained no new substantial information which would bear importantly on the Department's determination. Therefore, dismissal of the application was issued.

TA-W-39,449 and NAFTA-04386; Hasbro Manufacturing Services, El Paso, Texas (October 5, 2001)

Signed at Washington, DC, this 12th day of October, 2001.
Edward A. Tomchick,
Director, Division of Trade Adjustment Assistance.

[FR Doc. 01-26350 Filed 10-18-01; 8:45 am]

BILLING CODE 4510-30-M